DEPARTMENT OF ENERGY

Federal Energy Regulatory Commission

[Project No. 13299-000]

Alaska Village Electric Cooperative; Notice of Preliminary Permit Application Accepted for Filing and Soliciting Comments, Motions To Intervene, and Competing Applications

January 21, 2009.

On October 9, 2008, and supplemented on January 15, 2009, Alaska Village Electric Cooperative filed an application, pursuant to section 4(f) of the Federal Power Act, proposing to study the feasibility of the Shungnak River Hydroelectric Project located on the Shungnak River in the Northwest Arctic Borough, Alaska.

The proposed Shungnak River Hydroelectric Project would consist of: (1) A proposed 200-foot-high, 400-foot-long earth filled gravity dam; (2) a proposed 2.2 square mile reservoir with a storage capacity of 42,000 acre-feet; (3) a proposed 2,000-foot-long, 10-foot diameter steel or concrete penstock; (4) a proposed powerhouse containing four 1.25-megawatt generators; (5) a proposed 12.7-mile-long, 7,200/12,400-volt transmission line; and (6) appurtenant facilities. The Shungnak River Hydroelectric Project is estimated to have an annual generation of 35.04-gigawatt-hours, which would be sold to the community of Shungnak or mining operations in the vicinity of the project.

Applicant Contact: Mr. Daniel Hertrich, Polarconsult Alaska, Inc., 1503 W 33rd Ave, #310, Anchorage, Alaska 99503, phone: (907) 258-2420.

FERC Contact: Kelly T. Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13299) in the docket number field to access the document. For assistance, call toll-free 1-866-208-3372.

Kimberly D. Bose,
Secretary.

[FR Doc. E9-1761 Filed 1-27-09; 8:45 am]

BILLING CODE 6717-01-P